DEPARTMENT OF HEALTH AND HUMAN SERVICES

National Toxicology Program (NTP); Office of Liaison, Policy and Review; Meeting of the NTP Board of Scientific Counselors Technical Reports Review Subcommittee

AGENCY: National Institute of Environmental Health Sciences (NIEHS), National Institutes of Health (NIH), HHS.

ACTION: Meeting announcement and request for comments.

SUMMARY: Pursuant to Public Law 92-463, notice is hereby given of a meeting of the NTP Board of Scientific Counselors Technical Reports Review Subcommittee (TRR Subcommittee). The primary agenda topic is the peer review of the findings and conclusions presented in seven draft NTP Technical Reports of rodent toxicology and carcinogenicity studies in conventional rats and mice, one draft NTP Technical Report on a study in Crl:SKH-1 hairless mice, and one draft NTP Toxicity Report (see Preliminary Agenda below). The TRR Subcommittee meeting is open to the public with time scheduled for oral public comment. The NTP also invites written comments on any draft report discussed at the meeting (see “Request for Comments” below). The TRR Subcommittee deliberations on the draft reports will be reported to the NTP Board of Scientific Counselors (BSC) at a future date.

DATES: The TRR Subcommittee meeting will be held on February 27-28, 2008. All individuals who plan to attend are encouraged to register online by February 20, 2008, at the NTP Web site (http://ntp.niehs.nih.gov/go/15833). Written comments on the draft reports should be received by February 13, 2008. Persons needing special assistance, such as sign language interpretation or other reasonable accommodation in order to attend, should contact 919-541-2475 (voice), 919-541-4644 TTY (text telephone), through the Federal TTY Relay System at 800-877-8339, or by e-mail to niehsoeeo@niehs.nih.gov. Requests should be made at least 7 days in advance of the event.

ADDRESSES: The TRR Subcommittee meeting will be held in the Rodbell Auditorium, Rall Building at the NIEHS, 111 T. W. Alexander Drive, Research Triangle Park, NC 27709. Public comments and any other correspondence should be submitted to Dr. Barbara Shane, Executive Secretary (NTP Office of Liaison, Policy, and Review, NIEHS, P.O. Box 12233, MD A3-01, Research Triangle Park, NC 27709; telephone: 919-541-4253, fax: 919-541-0295; or e-mail: shane@niehs.nih.gov).

SUPPLEMENTARY INFORMATION:

Background

The primary agenda topic is the peer review of the findings and conclusions of eight draft NTP Technical Reports of rodent toxicology and carcinogenicity studies and one draft NTP Toxicity Report (see Preliminary Agenda below).

Attendance and Registration

The meeting is scheduled for February 27-28, 2008, from 8:30 a.m. to adjournment and is open to the public with attendance limited only by the space available. Individuals who plan to attend are encouraged to register online at the NTP website by February 20, 2008 (http://ntp.niehs.nih.gov/go/15833) to facilitate access to the NIEHS campus. Please note that a photo ID is required to access the NIEHS campus. The NTP is making plans to videocast the meeting through the Internet at http://www.niehs.nih.gov/news/video/live.

Availability of Meeting Materials

A copy of the preliminary agenda, committee roster, and any additional information, when available, will be posted on the NTP Web site (http://ntp.niehs.nih.gov/go/15833 ) or may be requested in hardcopy from the Executive Secretary (see ADDRESSES above). The draft reports will be posted on the NTP website after January 15, 2008. Following the meeting, summary minutes will be prepared and made available on the NTP Web site.

Request for Comments

Public input at this meeting is invited and time is set aside for the presentation of public comments on any draft report. Each organization is allowed one time slot per agenda topic. At least 7 minutes will be allotted to each speaker, and if time permits, may be extended to 10 minutes at the discretion of the chair. Persons wishing to make an oral presentation are asked to notify Dr. Barbara Shane via online registration at http://ntp.niehs.nih.gov/go/15833, phone, or email (see ADDRESSES above) by February 13, 2008, and if possible, to send a copy of the statement or talking points at that time. Written statements can supplement and may expand the oral presentation. Registration for oral comments will also be available on-site, although time allowed for presentation by on-site registrants may be less than that for pre-registered speakers and will be determined by the number of persons who register at the meeting. Written comments on the draft reports in lieu of an oral presentation are also welcome and should also be received by February 13, 2008, to enable review by the TRR Subcommittee and NTP staff prior to the meeting. Written comments received in response to this notice will be posted on the NTP website. Persons submitting written comments should include their name, affiliation, mailing address, phone, fax, e-mail, and sponsoring organization (if any) with the document.

Background Information on the NTP Board of Scientific Counselors

The NTP BSC is a technical advisory body comprised of scientists from the public and private sectors who provide primary scientific oversight to the overall program and its centers. Specifically, the BSC advises the NTP on matters of scientific program content, both present and future, and conducts periodic review of the program for the purposes of determining and advising on the scientific merit of its activities and their overall scientific quality. The TRR Subcommittee is a standing subcommittee of the BSC. BSC members are selected from recognized authorities knowledgeable in fields such as toxicology, pharmacology, pathology, biochemistry, epidemiology, risk assessment, carcinogenesis, mutagenesis, molecular biology, behavioral toxicology and neurotoxicology, immunotoxicology, reproductive toxicology or teratology, and biostatistics. Its members are invited to serve overlapping terms of up to four years. BSC and TRR Subcommittee meetings are held annually or biannually.

Dated: December 3, 2007.
Samuel H. Wilson,
Acting Director, National Institute of Environmental Health Sciences and National Toxicology Program.

Preliminary Agenda

National Toxicology Program (NTP) Board of Scientific Counselors Technical Reports Review Subcommittee Meeting

February 27-28, 2008, Rodbell Auditorium, Rall Building, National Institute of Environmental Health Sciences, 111 TW Alexander Drive, Research Triangle Park, NC 27709

NTP Technical Reports (TR) Scheduled for Review—February 27, 2008

TR 544 Dibromoacetonitrile (CAS No. 3252-43-5)

○ Water disinfection by-product formed from the reaction of chlorine oxidizing compounds with nitrogen containing organic compounds in water containing bromine; by-product of ozone disinfection.

TR 549 Bromochloroacetic Acid (CAS No. 5589-96-8)

○ Water disinfection by-product.

TR 553 Aloe Phototoxicity Studies (Aloe vera gel CAS No. 8001-97-6; Aloe-emodin CAS No. 481-72-1) in Crl:SKH-1 hairless mice

○ Used as a therapeutic dermatologic agent in the treatment of burns and in healthcare and cosmetic products.

TR 556 Chromium Picolinate Monohydrate (CAS No. 27882-76-4)

○ Used as a dietary supplement for losing weight.

TR 557 β-Myrcene (CAS No. 123-35-3)

○ Intermediate in the manufacture of terpene alcohols that are intermediates in the synthesis of aroma and flavoring chemicals; used as a scent in the manufacture of cosmetics, soaps, and detergents and as a peripheral analgesic; active ingredient in lemon grass tea; identified in numerous plants and in the emissions of plywood veneer dryers.

TR 555 1,2-Dibromo-2,4-dicyanobutane (CAS No. 35691-65-7)

○ Used in cosmetics and other household products.

February 28, 2008

TOX 82 Estragole (CAS No. 140-67-0)

○ Used in perfumes, as a flavoring agent in foods and liquors, and as an antimicrobial agent against acid-tolerant microorganisms, and to produce anise oil.

TR 551 Isoeugenol (CAS No. 97-54-1)

○ Food flavoring agent; found in cloves, bay leaves, cinnamon, and tobacco; used as a fragrance in household and personal hygiene products including perfumes, lotions, soaps, and detergents.

TR 554 5-(Hydroxymethyl)-2-furfural (CAS No. 67-47-0)

○ Occurs naturally in honey, apple juice, citrus juices, beer, brandy, milk, and breakfast cereals; used in the synthesis of dialdehydes, glycols, ethers, amino alcohols, acetals, and phenol/furfural novolak-type resins.

[FR Doc. E7-24131 Filed 12-12-07; 8:45 am]

BILLING CODE 4140-01-P